DEPARTMENT OF EDUCATION

National Assessment Governing Board

Committee and Quarterly Board Meetings

AGENCY: National Assessment Governing Board, Department of Education.

ACTION: Notice of open and closed meetings.

SUMMARY: This notice sets forth the agenda, time, and instructions to access the National Assessment Governing Board's (hereafter referred to as the Board or Governing Board) standing committee meetings and quarterly Governing Board meeting. This notice provides information to members of the public who may be interested in attending the meetings and/or providing written comments related to the work of the Governing Board. The meetings will be held either in person and/or virtually, as noted below. Members of the public must register in advance to attend the meetings virtually. A registration link will be posted on the Governing Board's website, www.nagb.gov, five (5) business days prior to each meeting.

DATES: The Quarterly Board Meeting will be held on the following dates:

November 20, 2025, from 9:45 a.m. to 3:00 p.m., ET

November 21, 2025, from 8:45 a.m. to 12:30 p.m., ET

ADDRESSES: Hilton Arlington National Landing, 2399 Richmond Highway, Arlington, VA 22202.

FOR FURTHER INFORMATION CONTACT: Angela Scott, Designated Federal Officer (DFO) for the Governing Board, 400 Maryland Avenue SW, Washington, DC 20202, telephone: (202) 245-6234, email: Angela.Scott@ed.gov.

SUPPLEMENTARY INFORMATION:

Statutory Authority and Function: The Governing Board is established under the National Assessment of Educational Progress Authorization Act (20 U.S.C. 9621). Information on the Governing Board and its work can be found at www.nagb.gov. Notice of the meetings is required under section 1009(a)(2) of 5 U.S.C. chapter 10 (commonly known as the Federal Advisory Committee Act). The Governing Board formulates policy for the National Assessment of Educational Progress (NAEP) administered by the National Center for Education Statistics (NCES). The Governing Board's responsibilities include:

(1) selecting the subject areas to be assessed; (2) developing appropriate student achievement levels; (3) developing assessment objectives and testing specifications that produce an assessment that is valid and reliable, and are based on relevant widely accepted professional standards; (4) developing a process for review of the assessment which includes the active participation of teachers, curriculum specialists, local school administrators, parents, and concerned members of the public; (5) designing the methodology of the assessment to ensure that assessment items are valid and reliable, in consultation with appropriate technical experts in measurement and assessment, content and subject matter, sampling, and other technical experts who engage in large scale surveys; (6) measuring student academic achievement in grades 4, 8, and 12 in the authorized academic subjects; (7) developing guidelines for reporting and disseminating results; (8) developing standards and procedures for regional and national comparisons; (9) taking appropriate actions needed to improve the form, content use, and reporting of results of an assessment; and (10) planning and executing the initial public release of NAEP results.

Standing Committee Meetings

The Governing Board's standing committees will meet to conduct regularly scheduled work. Standing committee meeting agendas and meeting materials will be posted on the Governing Board's website, www.nagb.gov, no later than five (5) business days prior to the meetings. Minutes of prior standing committee meetings are available at https://www.nagb.gov/governing-board/quarterly-board-meetings.html.

Standing Committee Meetings:

Thursday, November 20, 2025

Executive Committee (In-Person Meeting)

8:30 a.m.-9:30 a.m. (ET), Open Session

The Executive Committee will meet in open session on Thursday, November 20, 2025, from 8:30 a.m. to 9:30 a.m. to discuss participation in the Trial Urban District Assessment (TUDA) and trends in state assessments and NAEP.

Assessment Development Committee (In-Person Meeting)

3:15 p.m.-4:45 p.m. (ET), Open Session

The Assessment Development Committee will meet in open session on Thursday, November 20, 2025, from 3:15 p.m. to 4:45 p.m. to discuss the NAEP item development process and next steps for establishing Content Advisory Groups in the NAEP content areas.

Committee on Standards, Design and Methodology (In-Person Meeting)

3:15 p.m.-4:45 p.m. (ET), Open Session

The Committee on Standards, Design and Methodology will meet on Thursday, November 20, 2025, from 3:15 p.m. to 4:45 p.m. to discuss the NAEP School Device Bridge Study.

Reporting and Dissemination Committee (In-Person Meeting)

3:15 p.m.-4:45 p.m. (ET), Open Session

The Reporting and Dissemination Committee will meet on Thursday, November 20, 2025, in open session from 3:15 p.m. to 4:45 p.m. to provide an update on strategic communications efforts, debrief the recent release of the National Assessment of Educational Progress (NAEP) results, review the reporting process, and engage in an open discussion among committee members.

Friday, November 21, 2025

Nominations Committee (In-Person Meeting)

7:30 a.m.-8:30 a.m. (ET), Closed Session

The Nominations Committee will meet in closed session on Friday, November 21, 2025, from 7:30 a.m. to 8:30 a.m., to discuss applications received for Board vacancies for the 2026 nominations cycle as well as the rating process and member assignments for reviewing the applications. The discussion pertains to information of a personal nature where disclosure would constitute a clearly unwarranted invasion of personal privacy. As such, the discussions are protected by exemption 6 of the Government Sunshine Act, 5 U.S.C. 552b. 5 U.S.C. 552b(c)(6).

Quarterly Governing Board Meeting

The plenary sessions of the Governing Board's November 2025 quarterly meeting will be held on the following dates and times:

Thursday, November 20, 2025

9:45 a.m.-3:00 p.m. (ET) (Hybrid Meeting)

9:45 a.m.-11:00 a.m. (ET), Open Session

11:15 a.m.-12:15 p.m. (ET), Closed Session

12:15 p.m.-3:00 p.m. (ET) Open Session

On Thursday, November 20, 2025, the meeting will begin in open session at 9:45 a.m. with welcome remarks from Mark White, Chair of the Governing Board, followed by approval of the November 2025 agenda and the August 2025 meeting minutes. At 9:55 a.m., Nicholas Kent, Under Secretary of Education, will deliver remarks and administer the oath of office to new and reappointed members. This will be followed at 10:10 a.m. by a welcome to and remarks from the newly appointed and reappointed members.

At 10:30 a.m., Lesley Muldoon, Executive Director, will provide an update on the Board's work, followed by a report from Matthew Soldner, Acting Commissioner of NCES, at 10:45 a.m. A short break and transition to closed session will occur from 11:00 a.m. to 11:15 a.m. The Board will meet in closed session from 11:15 a.m. to 12:15 p.m. to receive an update on the NAEP budget and 2026 administration from Matt Soldner and Gina Broxterman, Director of Strategic Partnerships at NCES. This session is closed pursuant to Exemption 9(B) of the Government Sunshine Act (5 U.S.C. 552b(c)(9)(B), as it will include confidential budget and procurement information not yet available to the public and disclosure of this confidential information would have an adverse financial effect on the NAEP program by providing detailed proprietary contract costs of the current NAEP contractors to the public and disclose independent government cost estimates for future NAEP assessments if conducted in open session.

The Board will reconvene in open session from 12:15 p.m. to 2:00 p.m. for a discussion on NAEP sampling, followed by a presentation and discussion on the Future Role of Education Research from 2:00 p.m. to 3:00 p.m., with Amber Northern, Senior Advisor, Office of the Secretary. The Thursday plenary session will adjourn at 3:00 p.m.

Friday, November 21, 2025

8:45 a.m.-12:30 p.m. (ET) (Hybrid Meeting)

8:45 a.m.-9:50 a.m. (ET), Open Session

9:55 a.m.-11:10 a.m. (ET), Closed Session

11:15 a.m.-12:30 p.m. (ET), Open Session

The Friday, November 21, 2025, plenary session will begin in open session at 8:45 a.m. with reports on the ongoing work of each standing committee. From 9:15 a.m. to 9:45 a.m. members will engage in an open discussion, followed by a preview of the March 2026 meeting from 9:45 a.m. to 9:50 a.m. After a five-minute break, the Governing Board will meet in closed session from 9:55 a.m. to 11:10 a.m. to discuss the content of the Long-Term Trend assessment. This session must be closed because the presentation will include secure assessment items that cannot be publicly released without compromising their future use. Public disclosure of this confidential information would significantly impede implementation of the assessment program. Such matters are protected by exemption 9(B) of the Government Sunshine Act, 5 U.S.C. 552b. 5 U.S.C. 552b(c)(9)(B).

Following a brief transition, the Board will reconvene in open session from 11:15 a.m. to 12:30 p.m. for a discussion of priorities for the next generation of NAEP assessments, including potential opportunities to leverage artificial intelligence and other ascending technologies to improve the agility, efficiency, and quality of NAEP. The November 2025 Governing Board meeting will adjourn at 12:30 p.m.

Instructions for Accessing and Attending the Meetings

Registration: Members of the public may attend the November 20-21, 2025, meetings of the full Governing Board either in person or virtually. A link to the final meeting agenda and information on how to register for virtual attendance for the open sessions will be posted on the Governing Board's website, www.nagb.gov, no later than five (5) business days prior to the meeting. Registration is required to join the meeting virtually.

Public Comment: Written comments related to the work of the Governing Board and its standing committees may be submitted to the attention of the DFO, either via email to Angela.Scott@ed.gov or in hard copy to the address listed above in the FOR FURTHER INFORMATION CONTACT section. Written comments related to the November 20-21, 2025 Governing Board meeting should be submitted no later than close of business on November 13, 2025, and should reference the relevant agenda item.

Access to Records of the Meeting: Pursuant to 5 U.S.C. 1009, the public may inspect the meeting materials and other Governing Board records at 400 Maryland Avenue SW, Washington, DC 20202, by emailing Angela.Scott@ed.gov to schedule an appointment. The official verbatim transcripts of the open meeting sessions will be available for public inspection no later than 30 calendar days following each meeting and will be posted on the Governing Board's website. Requests for the verbatim transcriptions may be made via email to the DFO.

Reasonable Accommodations: The meeting location is accessible to individuals with disabilities. If you will need an auxiliary aid or service to participate in the meeting (e.g., interpreting service, assistive listening device, or materials in an alternate format), notify the DFO listed in this notice by close of business on November 13, 2025.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, title III, section 301—National Assessment of Educational Progress Authorization Act (20 U.S.C. 9621).

Lesley Muldoon,
Executive Director, National Assessment Governing Board (NAGB), U. S. Department of Education.

[FR Doc. 2025-19704 Filed 10-29-25; 8:45 am]

BILLING CODE 4000-01-P